DEPARTMENT OF HOMELAND SECURITY

[Docket No. CISA-2020-0010]

SAFECOM Membership Questionnaire

AGENCY: Cybersecurity and Infrastructure Security Agency (CISA), Department of Homeland Security (DHS).

ACTION: 30-Day notice and request for comments; NEW information collection, 1670-NEW.

SUMMARY: The Emergency Communications Division (ECD) within the Cybersecurity and Infrastructure Security Agency (CISA) will submit the following Information Collection Request (ICR) to the Office of Management and Budget (OMB) for review and clearance in accordance with the Paperwork Reduction Act of 1995. CISA previously published a notice about this ICR, in the Federal Register on September 25, 2020 for a 60-day public comment period. In response, three comments from two commenters were received. Two were not germane to the collection of information and the third requested additional information regarding SAFECOM available at https://www.cisa.gov/safecom. The purpose of this notice is to allow additional 30-days for public comments.

DATES: The comment period for the information collection request published on September 25, 2020 at 85 FR 60483 is extended. Comments are encouraged and will be accepted until April 22, 2021.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: The Department of Homeland Security (DHS), Cybersecurity and Infrastructure Security Agency (CISA)—Robert Rhoads c/o Ralph Barnett III at (703) 705-6130, SAFECOMGovernance@hq.dhs.gov.

SUPPLEMENTARY INFORMATION: On November 16, 2018, Congress passed Public Law 115-278, to amend the Homeland Security Act of 2002 (6 U.S.C. 101 et seq.), enacted and authorized the Cybersecurity and Infrastructure Security Agency (CISA) of the Department of Homeland Security (DHS). Statue 4173 (f)(3) under title XVIII mandated CISA to construct the Emergency Communications Division as one of three components. Furthermore, Statue 4173 (f)(3) calls for the Emergency Communications Division to be headed by the Assistant Director. Statue 4175 (c)(1)(2) (6 U.S.C. 571 note.) re-designated the Office of Emergency Communications to become the Emergency Communications Division, headed by the Assistant Director. In accordance with Statue 4179 1801 (6 U.S.C. 571)(b) title XVIII, the Assistant Director for the Emergency Communications Division is required to report to the Director of CISA. Section 2202 (6 U.S.C. 652)(b)(1) specifies for the head of CISA to be re-designated as the Director, who is required to report to the Secretary of the Department of Homeland Security.

CISA enhances public safety interoperable communications at all levels of government to help partners across the country develop their emergency communications capabilities. Working with stakeholders across the country, CISA conducts extensive, nationwide outreach to support and promote the ability of emergency response providers and relevant government officials to continue to communicate in the event of a natural disaster, act of terrorism, or other man-made disaster. Public Law 109-296, Title VI, 671(b), Title XVIII, 1801(c)(2) mandates DHS through CISA to administrate and manage SAFECOM, a state, local, tribal, and territorial stakeholder-driven public safety communications program. In an effort to resolve major communications issues identified during the September 11, 2001, terrorist attacks, SAFECOM was created as a Presidential E-Government Initiative to improve interoperability, allowing emergency responders to communicate more effectively before, during, and after emergencies and disasters.

The SAFECOM Membership Questionnaire is an internal SAFECOM document disseminated only to active SAFECOM Members. SAFECOM uses the Questionnaire to identify membership gaps, obtain updated information on SAFECOM's membership body (e.g., public safety communications experience, accolades, acquired skills/certifications, etc.), update SAFECOM marketing materials, and to assist SAFECOM when responding General Accounting Office (GAO) inquiries.

The DHS/CISA/ECD will disseminate the SAFECOM Membership Questionnaire to active SAFECOM Members as a fillable PDF document. SAFECOM intends to use the Questionnaire to examine its Membership body, identify membership gaps obtain updated information on SAFECOM's membership body (e.g., public safety communications experience, accolades, acquired skills/certifications, etc.), update SAFECOM marketing materials, and to assist SAFECOM when responding General Accounting Office (GAO) inquiries.

Analysis

Agency: Cybersecurity and Infrastructure Security Agency (CISA), Emergency Communications Division (ECD).

Title of Collection: SAFECOM Membership Questionnaire.

OMB Control Number: 1670-NEW.

Frequency: Annually.

Affected Public: State, Local, Tribal, and Territorial Governments.

Number of Annualized Respondents: 50.

Estimated Time per Respondent: 0.25 hours.

Total Annualized Burden Hours: 12.5 hours.

Total Annualized Respondent Opportunity Cost: $0.

Total Annualized Respondent Out-of-Pocket: $0.

Total Annualized Government Cost: $984.96.

Samuel Vazquez,
Acting Chief Information Officer, Department of Homeland Security, Cybersecurity and Infrastructure Security Agency.

[FR Doc. 2021-05954 Filed 3-22-21; 8:45 am]

BILLING CODE 9110-9P-P